DEPARTMENT OF HEALTH AND HUMAN SERVICES

National Institutes of Health

National Library of Medicine; Notice of Meeting

Pursuant to section 10(d) of the Federal Advisory Committee Act, as amended (5 U.S.C. Appendix 2), notice is hereby given of a meeting of the Board of Regents of the National Library of Medicine.

The meeting will be open to the public as indicated below, with attendance limited to space available. Individuals who plan to attend and need special assistance, such as sign language interpretation or other reasonable accommodations, should notify the Contact Person listed below in advance of the meeting.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: Board of Regents of the National Library of Medicine.

Date: September 11-12, 2001.

Open: September 11, 2001, 9:00 AM to 4:30 PM.

Agenda: Administrative Reports & Program Discussion.

Place: National Library of Medicine, Board Room Bldg 38, 2E-09, 8600 Rockville Pike, Bethesda, MD 20894.

Closed: September 11, 2001, 4:30 PM to 5:00 PM.

Agenda: To review and evaluate grant applications.

Place: National Library of Medicine, Board Room Bldg 38, 2E-09, 8600 Rockville Pike, Bethesda, MD 20894.

Open: September 12, 2001, 9:00 AM to 12:00 PM.

Agenda: Administrative Reports & Program Discussion.

Place: National Library of Medicine, Board Room Bldg 38, 2E-09, 8600 Rockville Pike, Bethesda, MD 20894.

Contact Person: Donald A.B. Lindberg, Director, National Library of Medicine, National Institutes of Health, Bldg. 38, 2E17B, Bethesda, MD 20894.

Information is also available on the Institute's/Center's home page: www.nlm.nih.gov/od/bor/bor.html, where an agenda and any additional information for the meeting will be posted when available.

(Catalogue of Federal Domestic Assistance Program Nos. 93.879, Medical Library Assistance, National Institutes of Health, HHS)
Dated: July 17, 2001.
LaVerne Y. Stringfield
Director, Office of Federal Advisory Committee Policy.

[FR Doc. 01-18723 Filed 7-26-01; 8:45 am]

BILLING CODE 4140-01-M